ENVIRONMENTAL PROTECTION AGENCY

[OPP-100157; FRL-6594-4]

ABT Associates, Inc., Chemical Information Services, Inc., and National Center for Food and Agricultural Policy; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be tranferred to ABT Associates, Inc. and its subcontractors, Chemical Information Services, Inc. and National Center for Food and Agricultural Policy, in accordance with 40 CFR 2.307(h)(3) and 2.308(i)(2). ABT Associates, Inc. and its subcontractors, Chemical Information Services, Inc. and National Center for Food and Agricultural Policy, have been awarded a contract to perform work for OPP, and access to this information will enable ABT Associates, Inc. and its subcontractors, Chemical Information Services, Inc. and National Center for Food and Agricultural Policy, to fulfill the obligations of the contract.

DATES: ABT Associates, Inc. and its subcontractors, Chemical Information Services, Inc. and National Center for Food and Agricultural Policy, will be given access to this information on or before July 3, 2000.

FOR FURTHER INFORMATION CONTACT: By mail: Erik R. Johnson, FIFRA Security Officer, Information Resources and Services Division (7502C), Office of Pesticide Programs, Environmental Protection Agency, 1200 Pennsylvania Ave., NW., Washington, DC 20460; telephone number: 703-305-7248; e-mail address: johnson.erik@epa.gov.

SUPPLEMENTARY INFORMATION:

I. General Information

A. Does this Action Apply to Me?

This action applies to the public in general. As such, the Agency has not attempted to describe all the specific entities that may be affected by this action. If you have any questions regarding the applicability of this action to a particular entity, consult the person listed under “FOR FURTHER INFORMATION CONTACT.”

B. How Can I Get Additional Information, Including Copies of this Document and Other Related Documents?

You may obtain electronic copies of this document, and certain other related documents that might be available electronically, from the EPA Internet Home Page at http://www.epa.gov/. To access this document, on the Home Page select “Laws and Regulations” and then look up the entry for this document under the “Federal Register—Environmental Documents.” You can also go directly to the Federal Register listings at http://www.epa.gov/fedrgstr/.

II. Contractor Requirements

EPA's Office of Pesticide Programs (OPP) is restructuring the fees charged to pesticide registrants to establish pesticide tolerances under the Tolerance Fee Rule. The rule will assess tolerance fees for some chemicals that were previously exempt from tolerance fees, and there are some existing tolerances that will be assessed fees retroactively.

Under Contract No. 68-W6-0040, ABT Associates, Inc. and its subcontractors, Chemical Information Services, Inc. and National Center for Food and Agricultural Policy, will perform broad professional and expert support by providing an analysis calculating the economic impacts of the proposed rule on the pesticide industry (including manufacturers of inert materials). The analysis will include the calculations of the fee-based costs of the rule in terms of the number of tolerance petitions at each fee level, as well as an analysis of the economic impact of these costs on the various industry segments bearing the costs.

The OPP has determined that access by ABT Associates, Inc. and its subcontractors, Chemical Information Services, Inc. and National Center for Food and Agricultural Policy, to information on all pesticide chemicals is necessary for the performance of this contract.

Some of this information may be entitled to confidential treatment. The information has been submitted to EPA under sections 3, 4, 6, and 7 of FIFRA and under sections 408 and 409 of FFDCA.

In accordance with the requirements of 40 CFR 2.307(h)(2), the contract with ABT Associates, Inc. and its subcontractors, Chemical Information Services, Inc. and National Center for Food and Agricultural Policy, prohibits use of the information for any purpose not specified in the contract; prohibits disclosure of the information to a third party without prior written approval from the Agency; and requires that each official and employee of the contractor sign an agreement to protect the information from unauthorized release and to handle it in accordance with the FIFRA Information Security Manual. In addition, ABT Associates, Inc. and its subcontractors, Chemical Information Services, Inc. and National Center for Food and Agricultural Policy, are required to submit for EPA approval a security plan under which any CBI will be secured and protected against unauthorized release or compromise. No information will be provided to ABT Associates, Inc. and its subcontractors, Chemical Information Services, Inc. and National Center for Food and Agricultural Policy, until the requirements in this document have been fully satisfied. Records of information provided to ABT Associates, Inc. and its subcontractors, Chemical Information Services, Inc. and National Center for Food and Agricultural Policy, will be maintained by EPA Project Officers for this contract. All information supplied to ABT Associates, Inc. and its subcontractors, Chemical Information Services, Inc. and National Center for Food and Agricultural Policy, by EPA for use in connection with this contract will be returned to EPA when ABT Associates, Inc. and its subcontractors, Chemical Information Services, Inc. and National Center for Food and Agricultural Policy, have completed their work.

List of Subjects

Environmental protection, Business and industry, Government contracts, Government property, Security measures.

Dated: June 19, 2000.
Richard D. Schmitt,
Acting Director, Information Resources and Services Division, Office of Pesticide Programs.

[FR Doc. 00-16369 Filed 6-27-00; 8:45 am]

BILLING CODE 6560-50-F